DEPARTMENT OF COMMERCE

National Oceanic and Atmospheric Administration

RIN 0648-XH076

Mid-Atlantic Fishery Management Council (MAFMC); Public Meeting

AGENCY: National Marine Fisheries Service (NMFS), National Oceanic and Atmospheric Administration (NOAA), Commerce.

ACTION: Notice; public meeting.

SUMMARY: The Northeast Trawl Advisory Panel (NTAP) of the Mid-Atlantic Fishery Management Council will hold a meeting.

DATES: The meeting will be held on Monday, July 29, beginning at 8 a.m. and conclude by 3:30 p.m. For agenda details, see SUPPLEMENTARY INFORMATION.

ADDRESSES: The meeting will be held at the University of Massachusetts Dartmouth School for Marine Science & Technology (SMAST) East Building located at 836 South Rodney French Blvd., New Bedford, MA 02744 and available via webinar (http://www.mafmc.org/ntap).

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is to: (1) Meet the Memorial University Flume Tank staff and receive an overview of the Flume Tank Facility; (2) receive an overview of the Northeast Fisheries Science Center trawl survey; (3) conduct trawl model flume tank experiments of net spread; and (4) determine other trawl model flume tank experiments.

Special Accommodations

The meeting is physically accessible to people with disabilities. Requests for sign language interpretation or other auxiliary aids should be directed to M. Jan Saunders at the Mid-Atlantic Council Office, (302) 526-5251, at least 5 days prior to the meeting date.

Dated: June 25, 2019.
Tracey L. Thompson,
Acting Deputy Director, Office of Sustainable Fisheries, National Marine Fisheries Service.

[FR Doc. 2019-13898 Filed 6-27-19; 8:45 am]

BILLING CODE 3510-22-P